DEPARTMENT OF DEFENSE

Office of the Secretary

Notice of Federal Advisory Committee Meeting—Defense Business Board

AGENCY: Department of Defense (DoD).

ACTION: Notice of Federal advisory committee meeting.

SUMMARY: The DoD is publishing this notice to announce that the following Federal Advisory Committee meeting of the Defense Business Board (“the Board”) will take place.

DATES: Open to the public Tuesday, September 10, 2024 from 3:00 p.m. to 4:30 p.m. Eastern Standard Time.

ADDRESSES: The meeting will be conducted virtually by Zoom. To participate in the meeting, see the Meeting Accessibility section for instructions.

FOR FURTHER INFORMATION CONTACT: Ms. Cara Allison Marshall, Designated Federal Officer (DFO) of the Board in writing at Defense Business Board, 1155 Defense Pentagon, Room 5B1088A, Washington, DC 20301-1155; or by email at cara.l.allisonmarshall.civ@mail.mil; or by phone at 703-614-1834.

SUPPLEMENTARY INFORMATION: This meeting is being held under the provisions of chapter 10 of title 5, United States Code (U.S.C.) (commonly known as the “Federal Advisory Committee Act” or “FACA”); 5 U.S.C. 552b of title (commonly known as the “Government in the Sunshine Act”); and 41 Code of Federal Regulation (CFR) 102-3.140 and 102-3.150.

Purpose of the Meeting: The mission of the Board is to examine and advise the Secretary and Deputy Secretary of Defense on overall DoD management and governance. The Board provides independent, strategic-level, private sector and academic advice and counsel on enterprise-wide business management approaches and best practices for business operations and achieving National Defense goals.

Agenda: The Board meeting will begin September 10 at 3:00 p.m. with opening remarks by the Board DFO, Ms. Cara Allison Marshall, followed by a welcome by the Board Chair. The Board will receive a presentation on the study, Communicating In Large Organizations from Mr. Matthew Daniel, Chair, Talent Management, Culture & Diversity Subcommittee. During this session, the Subcommittee will brief the Board on its findings, observations, and recommendations it compiled as part of a recent study on best practices to effectively communicate in large organizations. The DFO will adjourn the open session. The latest version of the agenda is available on the Board's website at: https://dbb.dod.afpims.mil/Meetings/Meeting-September-2024/.

Meeting Accessibility: Pursuant to section 5 U.S.C. 1009(a)(1) and 41 CFR 102-3.140, the meeting on September 10 from 3:00 p.m. to 4:30 p.m. is open to the public virtually. Persons desiring to attend the public sessions are required to register. To attend the public sessions, submit your name, affiliation/organization, telephone number, and email contact information to the Board at osd.pentagon.odam.mbx.defense-business-board@mail.mil. Requests to attend the public sessions must be received no later than 4:00 p.m. on Friday, September 6, 2024. Upon receipt of this information, the Board will provide further instructions for virtually attending the meeting.

Written Comments and Statements: Pursuant to 41 CFR 102-3.105(j) and 102-3.140 and 5 U.S.C. 1009(a)(3) of the FACA, the public or interested organizations may submit written comments or statements to the Board in response to the stated agenda of the meeting or regarding the Board's mission in general. Written comments or statements should be submitted to Ms. Cara Allison Marshall, the DFO, via electronic mail (the preferred mode of submission) at the address listed in the FOR FURTHER INFORMATION CONTACT section above. Each page of the comment or statement must include the author's name, title or affiliation, address, and daytime phone number. The DFO must receive written comments or statements submitted in response to the agenda set forth in this notice by Friday, September 6, 2024, to be considered by the Board. The DFO will review all timely submitted written comments or statements with the Board Chair and ensure the comments are provided to all members of the Board before the meeting. Written comments or statements received after this date may not be provided to the Board until its next scheduled meeting. Please note that all submitted comments and statements will be treated as public documents and will be made available for public inspection, including, but not limited to, being posted on the Board's website.

Dated: August 16, 2024.
Patricia L. Toppings,
Alternate OSD Federal Register Liaison Officer, Department of Defense.

[FR Doc. 2024-18756 Filed 8-20-24; 8:45 am]

BILLING CODE 6001-FR-P